Title 3—

The President

Proclamation 8253 of May 8, 2008

Mother's Day, 2008

By the President of the United States of America

A Proclamation

On Mother's Day, we honor the grace, wisdom, and strength of our mothers, and we celebrate the special bonds shared between mothers and their children.

Mothers work tirelessly to help their children build healthy and successful lives. Through their positive examples and countless acts of kindness, mothers teach the values of generosity and compassion and the importance of family and community. As President Ronald Reagan said, “From our mothers, we first learn about values and caring and the difference between right and wrong.” By providing a nurturing environment where their children can grow in confidence and character, mothers lay the foundation for the next generation of Americans to realize their full potential.

Our Nation is grateful for the sacrifices mothers make every day and for the unconditional love they give their children. We are especially thankful for the mothers who support their sons and daughters serving in our Armed Forces and for the mothers who bring honor to the uniform of the United States by defending our freedom at home and abroad.

Every child blessed with a mother's love has been given one of life's great gifts. On this Mother's Day, we recognize the extraordinary contributions America's mothers make to their children, their families, and our country.

To honor mothers, the Congress, by a joint resolution approved May 8, 1914, as amended (38 Stat. 770), has designated the second Sunday in May each year as “Mother's Day” and has requested the President to call for its appropriate observance. May God bless mothers across America on this special day and throughout the year.

NOW, THEREFORE, I, GEORGE W. BUSH, President of the United States of America, do hereby proclaim May 11, 2008, as Mother's Day. I encourage all Americans to show their gratitude and love to mothers for making a difference in the lives of their children, families, and communities. I call upon citizens to observe this day with appropriate programs, ceremonies, and activities.

IN WITNESS WHEREOF, I have hereunto set my hand this eighth day of May, in the year of our Lord two thousand eight, and of the Independence of the United States of America the two hundred and thirty-second.

[FR Doc. 08-1257

Filed 5-9-08; 11:24 am]

Billing code 3195-01-P